DEPARTMENT OF HOMELAND SECURITY

Coast Guard

33 CFR Part 117

[CGD11-05-023]

Drawbridge Operation Regulations; Petaluma River, Blackpoint, CA

AGENCY: Coast Guard, DHS.

ACTION: Notice of temporary deviation from regulations.

SUMMARY: The Commander, Eleventh Coast Guard District, has issued a temporary deviation from the regulation governing the operation of the Blackpoint Railroad Drawbridge across the Petaluma River, mile 0.8, at Blackpoint, CA. This deviation allows the bridge to remain in the closed-to-navigation position for necessary bridge repair.

DATES: This deviation is effective from 6:30 a.m. until 8 p.m. on Monday August 29, 2005.

ADDRESSES: Materials referred to in this document are available for inspection or copying at Commander (oan), Eleventh Coast Guard District, Building 50-3, Coast Guard Island, Alameda, CA 94501-5100 between 8 a.m. and 4 p.m., Monday through Friday, except Federal holidays. The telephone number is (510) 437-3516. Commander (oan), Eleventh Coast Guard District maintains the public docket for this temporary deviation.

FOR FURTHER INFORMATION CONTACT: David H. Sulouff, Chief, Bridge Section, Eleventh Coast Guard District, telephone (510) 437-3516.

SUPPLEMENTARY INFORMATION: The Sonoma-Marin Area Rail Transit District requested to secure the Blackpoint Drawbridge, mile 0.8, Petaluma River, in the closed-to-navigation position on 29 August 2005, during daylight hours for bridge repair. The drawbridge provides unlimited vertical clearance in the full open-to-navigation position, and 7 feet vertical clearance, above Mean High Water, when closed. The drawbridge is normally maintained in the fully open position, except for the crossing of trains or for maintenance, as required by 33 CFR 117.187.

The proposed work was coordinated with waterway users. From 6:30 a.m. to 8 p.m. on Monday, August 29, 2005, the drawspan may be secured in the closed-to-navigation position and need not open for vessels. If safe to do so, a vessel can pass through the bridge during this period. The drawspan will be able to open in an emergency with a one-hour advance notice. The drawspan shall resume normal operations after 8 p.m. on August 29, 2005.

In accordance with 33 CFR 117.35(c), this work will be performed with all due speed in order to return the bridge to normal operation as soon as possible. This deviation from the operating regulations is authorized under 33 CFR 117.35.

Dated: August 16, 2005.
Kevin J. Eldridge,
Rear Admiral, U.S. Coast Guard, Commander, Eleventh Coast Guard District.

[FR Doc. 05-17094 Filed 8-26-05; 8:45 am]

BILLING CODE 4910-15-P